DEPARTMENT OF HEALTH AND HUMAN SERVICES

Administration for Children and Families

Submission for OMB Review; National Human Trafficking Training and Technical Assistance Center (NHTTAC) Evaluation Package (OMB #0970-0519)

AGENCY: Office on Trafficking in Persons, Administration for Children and Families, Department of Health and Human Services.

ACTION: Request for public comments.

SUMMARY: The Office on Trafficking of Persons (OTIP), Administration for Children and Families (ACF), U.S. Department of Health and Human Services (HHS), is requesting renewal with revisions to the instruments previously approved for the National Human Trafficking Training and Technical Assistance Center (NHTTAC) Evaluation Package (Office of Management and Budget (OMB) #0970-0519, expiration 03/31/2023). Items were expanded to include measures related to specific skills, competencies, and knowledge and outcomes at the organizational and community levels, and the annual burden has increased for several forms.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: The NHTTAC delivers training and technical assistance (T/TA) to inform and deliver a public health response to trafficking. In applying a public health approach, NHTTAC holistically builds the capacity of professionals, organizations, and communities to identify and respond to the complex needs of all individuals who have experienced trafficking or who have increased risk factors for trafficking and address the root causes that put individuals, families, and communities at risk of trafficking. These efforts ultimately help improve the availability and delivery of coordinated and trauma-informed services before, during, and after an individual's trafficking exploitation, regardless of their age, gender identity, sexual orientation, race/ethnicity, nationality, or type of exploitation experienced.

NHTTAC hosts a variety of services, programs, and facilitated sessions to improve service provision to people who have experienced trafficking or who have increased risk factors for trafficking, including The Human Trafficking Leadership Academy; SOAR (Stop, Observe, Ask, and Respond) to Health and Wellness; OTIP-funded recipients; both short-term and specialized T/TA requests; the NHTTAC Customer Support; and information through NHTTAC's website, resources, and materials about trafficking. This information collection is intended to collect feedback from participants to assess a diverse range of T/TA provided by NHTTAC.

Revisions have been made in order to:

• Respond to Postgraduate Institute for Medicine accreditation requirements through SOAR T/TA

• Reduce burden where applicable

• Provide flexibility for NHTTAC to assess new knowledge gains, application of skills/competencies, and outcomes of participants who received NHTTAC T/TA

• Understand NHTTAC's progress on improving diversity, equity, and inclusion

Respondents: NHTTAC T/TA participants include OTIP grant recipients, individuals with lived experience, professionals who interact with and provide services to individuals who have experienced trafficking, including healthcare, behavioral health, public health, and human service practitioners, organizations, and communities.

Annual Burden Estimates
Instrument | Annual number of respondents | Total number of responses per respondent | Average burden hours per response | Annual burden hours
Universal T/TA Participant Feedback—Long Version | 2,100 | 1 | 0.43 | 903
Universal T/TA Participant Feedback—Short Version | 50,000 | 1 | 0.10 | 5,000
Intensive T/TA Participant Feedback | 650 | 1 | 1.17 | 761
Follow Up Feedback | 10,000 | 1 | 0.50 | 5,000
Qualitative Guide | 2,200 | 1 | 1.50 | 3,300
Network Survey | 600 | 1 | 1.00 | 600
Client Satisfaction Survey | 1,000 | 1 | 0.08 | 80
Resources Feedback | 500 | 1 | 0.08 | 40
Requester Feedback | 250 | 1 | 0.12 | 30

Estimated Total Annual Burden Hours: 15,714.

Authority: 22 U.S.C. 7104 and 22 U.S.C. 7105(c)(4).

John M. Sweet Jr,
ACF/OPRE Certifying Officer.

[FR Doc. 2023-06097 Filed 3-23-23; 8:45 am]

BILLING CODE 4184-47-P